DEPARTMENT OF STATE

[Public Notice 6386]

Department of State Performance Review Board Members

In accordance with section 4314(c)(4) of 5 United States Code, the Department of State has appointed the following individuals to the Department of State Performance Review Board for non-career Senior Executive Service members:

Carrie B. Cabelka, Senior Advisor to the Secretary and Director of White House Liaison, Office of the Under Secretary for Management, Department of State;

David Gordon, Director of Policy Planning, Office of the Secretary, Department of State;

Brian F. Gunderson, Chief of Staff, Office of the Secretary, Department of State; and

Philippe A. Lussier, Office Director, Office of Resource Management and Organization Analysis, Bureau of Human Resources, Department of State.

Dated: October 1, 2008.
Harry K. Thomas, Jr.,
Director General of the Foreign Service and Director of Human Resources, Department of State.

[FR Doc. E8-23897 Filed 10-8-08; 8:45 am]

BILLING CODE 4710-15-P